ENVIRONMENTAL PROTECTION AGENCY

[ER-FRL-6690-2]

Environmental Impacts Statements; Notice of Availability

Responsible Agency: Office of Federal Activities, General Information (202) 564-7167 or http://www.epa.gov/compliance/nepa/.

Weekly receipt of Environmental Impact Statements.

Filed 08/13/2007, through 08/17/2007.

Pursuant to 40 CFR 1506.9.

EIS No. 20070357, Draft EIS, BLM, UT. Moab Field Office Planning Area, Resource Management Plan, Implementation, Grand and San Juan Counties, UT, Comment Period Ends: 11/21/2007. Contact: Brent Northrup 435-259-2151.

EIS No. 20070358, Final EIS, AFS, CA. Turntable Bay Marina Master Development Project, Implementation, Shasta-Trinity National Forest, Special Use Permit, Shasta and Trinity Counties, CA.Wait Period Ends: 09/24/2007. Contact: J. Sharon Heywood 530-226-2500.

EIS No. 20070359, Draft Supplement, BLM, AK, Northeast National Petroleum Reserve—Alaska Integrated Activity Plan, Updated Information, addressing the need for more Oil and Gas Production through Leasing Lands, Consideration of 4 Alternatives, North Slope Borough, AK. Comment Period Ends: 10/09/2007. Contact: Jim Ducker 907-271-3130.

EIS No. 20070360, Final EIS, BLM, 00. Overland Pass Natural Gas Liquids Pipeline Project (OPP), Construction and Operation of 760 mile Natural Gas Liquids Pipeline, Right-of-Way Grant, KS, WY, and CO. Wait Period Ends: 09/24/2007. Contact: Tom Hurshman 970-240-5345.

EIS No. 20070361, Draft EIS, FHW, CA. Schuyler Heim Bridge Replacement and SR-47 Expressway Improvement Project, from Alameda Street to Pacific Coast Highway, Funding, U.S. Coast Guard Bridge Permit, U.S. Army COE Section 10 and 404 Permits, Ports of Long Beach and Los Angeles, Los Angeles County, CA. Comment Period Ends: 10/16/2007. Contact: Karl Price 213-897-1839.

EIS No. 20070362, Draft EIS, FRC, OR, WA. Bradwood Landing Project, Liquified Natural Gas Import Terminal and Natural Gas Pipeline Facilities, Construction and Operation, U.S. Army COE Section 10 and 404 Permits, Clatsop County, OR and Cowlitz County, WA. Comment Period Ends: 12/24/2007. Contact: Andy Black 1-866-208-3372.

EIS No. 20070363, Draft EIS, COE, CA. Carryover Storage and San Vicente Dam Raise Project, Providing Additional Storage Capacity for 100,000 area feet of Water by the Year 2011, Issuance of Permits, Section 10 and 404 Permits, San Diego County, CA. Comment Period Ends: 10/09/2007. Contact: Robert R. Smith 858-674-6784.

EIS No. 20070364, Draft Supplement, COE, FL. Rock Mining in the Lake Belt Region Plan, Continuance of Limestone Mining Construction, Section 404 Permit, Miami-Dade County, FL. Comment Period Ends: 10/22/2007. Contact: Leah Oberlin 561-472-3506.

EIS No. 20070365, Draft EIS, USA, 00. PROGRAMMATIC—Army Growth and Force Structure Realignment, Implementation, Nationwide. Comment Period Ends: 10/09/2007. Contact: Mike Ackerman 410-436-2522.

EIS No. 20070366, Draft EIS, OSM, 00. Excess Spoil Minimization Stream Buffer Zones. Proposed Revisions to the Permanent Program Regulations Implementing the Surface Mining Control and Reclamation Act of 1977 Concerning the Creation and Disposal of Excess Spoil and Coal Mine Waste and Stream Buffer Zones. Permit Application, Comment Period Ends: 10/15/2007. Contact: David Hartos 412-937-2909.

Dated: August 21, 2007.
Ken Mittelholtz,
Environmental Protection Specialist, Office of Federal Activities.

[FR Doc. E7-16816 Filed 8-23-07; 8:45 am]

BILLING CODE 6560-50-P